DEPARTMENT OF HEALTH AND HUMAN SERVICES

Food and Drug Administration

[Docket No. 2006N-0430]

Agency Information Collection Activities; Submission for Office of Management and Budget Review; Comment Request; General Licensing Provisions: Biologics License Application, Changes to an Approved Application, Labeling, Revocation and Suspension, Postmarketing Studies Status Reports, and Forms FDA 356h and 2567; Correction

AGENCY: Food and Drug Administration, HHS.

ACTION: Notice.

SUMMARY: The Food and Drug Administration (FDA) is correcting a notice that appeared in the Federal Register of February 2, 2007 (72 FR 5057). The document announced that an opportunity for public comment on a proposed collection of information had been submitted to the Office of Management and Budget for review and clearance under the Paperwork Reduction Act of 1995. The notice published with an error in titles referring to an FDA form number in two places in the document. This document corrects those errors.

DATES: February 15, 2007.

FOR FURTHER INFORMATION CONTACT: Jonna Capezzuto, Office of the Chief Information Officer (HFA-250), Food and Drug Administration, 5600 Fishers Lane, Rockville, MD 20857, 301-827-4659.

SUPPLEMENTARY INFORMATION: In the Federal Register of Friday, February 2, 2007, the following corrections are made on page 5057:

1. In the first column, in the ninth line of the title of the document, the phrase “Forms FDA 456h” is corrected to read “Forms FDA 356h”.

2. In the second column, in the SUPPLEMENTARY INFORMATION section of the document, in the sixth line of the title, the phrase “Forms FDA 456h” is corrected to read “Forms FDA 356h”.

Dated: February 8, 2007.
Jeffrey Shuren,
Assistant Commissioner for Policy.

[FR Doc. E7-2576 Filed 2-14-07; 8:45 am]

BILLING CODE 4160-01-S